DEPARTMENT OF TRANSPORTATION

Federal Motor Carrier Safety Administration

[Docket No. FMCSA-2006-26367]

Meetings: Motor Carrier Safety Advisory Committee (MCSAC); Notice of Public Meeting

AGENCY: Federal Motor Carrier Safety Administration (FMCSA), Department of Transportation.

ACTION: Notice of public meeting.

SUMMARY: FMCSA announces a meeting of MCSAC, which will take place via videoconference.

DATES: The meeting will be held Monday and Tuesday, December 6 and 7, 2021, from 9:15 a.m. to 4:30 p.m., Eastern Time. Requests for accommodations because of a disability must be received by Monday, November 29. Requests to register and/or to submit written materials to be reviewed during the meeting must be received no later than Monday, November 29.

ADDRESSES: The meeting will be held via videoconference. Those members of the public who would like to participate should go to https://www.fmcsa.dot.gov/advisory-committees/mcsac/meetings to access the meeting, task statements, a detailed agenda for the entire meeting, meeting minutes and additional information on MCSAC and its activities. The meeting will be recorded, and a link to the recording will be posted on the FMCSA website.

FOR FURTHER INFORMATION CONTACT: Ms. Shannon L. Watson, Senior Advisor to the Associate Administrator for Policy, Federal Motor Carrier Safety Administration, U.S. Department of Transportation, 1200 New Jersey Avenue SE, Washington, DC 20590, (202) 360-2925, mcsac@dot.gov. Any MSCAC-related request or submission should be sent via email to the person listed in this section.

Information may also be submitted by docket through Docket Number FMCSA-2006-26367 using any of the following methods:

• Federal eRulemaking Portal: Go to http://www.regulations.gov. Follow the online instructions for submitting comments.

• Fax: 202-493-2251.

• Mail: Docket Operations; U.S. Department of Transportation, 1200 New Jersey Avenue SE, Room W12-140, Washington, DC 20590.

• Hand Delivery: Docket Operations, U.S. Department of Transportation, 1200 New Jersey Avenue SE, West Building, Room W12-140, Washington, DC, between 9 a.m. and 5 p.m., E.T. Monday through Friday, except Federal holidays. To be sure someone is there to help you, please call (202) 366-9317 or (202) 366-9826 before visiting Docket Operations.

SUPPLEMENTARY INFORMATION:

I. Background

Purpose of the Committee

MCSAC was established to provide FMCSA with advice and recommendations on motor carrier safety programs and motor carrier safety regulations. MCSAC is composed of up to 25 voting representatives from the motor carrier safety advocacy, safety enforcement, labor, and industry sectors. The diversity of MCSAC ensures the requisite range of views and expertise necessary to discharge its responsibilities. MCSAC operates as a discretionary committee under the authority of the U.S. Department of Transportation (DOT), established in accordance with the provisions of the Federal Advisory Committee Act (FACA), as amended (5 U.S.C. app. 2).

Meeting Agenda

MCSAC will resume consideration of Task 21-1, relating to supply chains for the transportation industrial base. Task 21-1 includes discussions about workforce skills for the motor carrier sector and identified gaps, opportunities, and potential best practices in meeting the future workforce needs and driver retention for the motor carrier industry. The task also includes discussions about the role of transportation systems in supporting existing supply chains and risks associated with those transportation systems and the safe and efficient transportation of passengers and freight across our Nation. Subsequent to its July meeting, MCSAC engaged its Driver Subcommittee for its consideration of workforce needs, the results of which are to be submitted to MCSAC for its consideration and final recommendations to FMCSA.

Additionally, MCSAC will resume consideration of Task 20-1, which relates to changes to the package and small goods delivery sector. A number of companies are now using small vehicles (e.g., vehicles with a gross vehicle weight rating less than 10,000 pounds) to deliver goods, and there appears to be a gap in safety oversight of both drivers and vehicles. For this task, members will hear from FMCSA experts on trends in the Fatality Analysis Reporting System (FARS) and Motor Carrier Management Information System (MCMIS) crash and highway safety data.

II. Meeting Participation

Advance registration is requested. Please register at www.fmcsa.dot.gov/mcsac by the deadline referenced in the DATES section. The meeting will be open to the public for its entirety. The U.S. Department of Transportation is committed to providing equal access to this meeting for all participants. If you need alternative formats or services because of a disability, such as sign language, interpretation, or other ancillary aids, please contact the person listed in the FOR FURTHER INFORMATION CONTACT section.

Oral comments from the public will be heard throughout the meeting, at the discretion of the MCSAC chairman and designated federal officer. FMCSA asks that individuals from the public limit their comments to one minute on the issues under consideration only. Members of the public may submit written comments to the person listed in the FOR FURTHER INFORMATION CONTACT section on the topics to be considered during the meeting by the deadline referenced in the DATES section.

Larry W. Minor,
Associate Administrator for Policy.

[FR Doc. 2021-24245 Filed 11-4-21; 8:45 am]

BILLING CODE 4910-EX-P